DEPARTMENT OF HEALTH AND HUMAN SERVICES

National Institutes of Health

National Institute on Aging; Notice of Closed Meeting

Notice is hereby given of a change in the meeting of the National Institute on Aging Special Emphasis Panel, December 4, 2006, 7 p.m. to December 5, 2006 6 p.m. Holiday Inn Chevy Chase, 5520 Wisconsin Avenue, Chevy Chase, MD 20815 which was published in the Federal Register on November 3, 2006, Vol. 71/64730.

The meeting will now be held at the Hilton San Diego Airport Hotel, San Diego, California from December 4-5, 2006. The meeting is closed to the public.

Dated: November 16, 2006.
Anna Snouffer,
Acting Director, Office of Federal Advisory Committee Policy.

[FR Doc. 06-9386 Filed 11-22-06; 8:45 am]

BILLING CODE 4140-01-M